INTERNATIONAL TRADE COMMISSION

[Investigation No. 337-TA-1069]

Certain Pool Spa Enclosures; Notice of Commission Determination Not To Review an Initial Determination (Order No. 9) Terminating the Investigation; Termination of the Investigation

AGENCY: U.S. International Trade Commission.

ACTION: Notice.

SUMMARY: Notice is hereby given that the U.S. International Trade Commission (the “Commission”) has determined not to review a January 23, 2018, initial determination (Order No. 9) (the “ID”) granting a joint motion to terminate this investigation based on a settlement agreement. This investigation is terminated.

FOR FURTHER INFORMATION CONTACT: Ron Traud, Office of the General Counsel, U.S. International Trade Commission, 500 E Street SW, Washington, DC 20436, telephone (202) 205-3427. Copies of non-confidential documents filed in connection with this investigation are or will be available for inspection during official business hours (8:45 a.m. to 5:15 p.m.) in the Office of the Secretary, U.S. International Trade Commission, 500 E Street SW, Washington, DC 20436, telephone 202-205-2000. General information concerning the Commission may also be obtained by accessing its internet server (https://www.usitc.gov). The public record for this investigation may be viewed on the Commission's electronic docket (EDIS) at https://edis.usitc.gov. Hearing-impaired persons are advised that information on this matter can be obtained by contacting the Commission's TDD terminal at 202-205-1810.

SUPPLEMENTARY INFORMATION: On September 15, 2017, the Commission instituted this investigation under section 337 of the Tariff Act of 1930, as amended, 19 U.S.C. 1337 (“section 337”), based on a complaint and an amended complaint filed by Aqua Shield, Inc. of West Babylon, NY (“Aqua Shield”). 82 FR 43402, 43402-03 (Sept. 15, 2017). The complaint, as amended, alleges a violation of section 337 by reason of infringement of certain claims of U.S. Patent No. U.S. Patent No. 6,637,160. The complaint named as respondents Inter Pool Cover Team of the Czech Republic; Alukov HZ Spol. S.R.O. of the Czech Republic; Alukov, Spol. S.R.O. of Slovakia; Pool & Spa Enclosures, LLC, of Monroe Township, NJ; and Poolandspa.com of Las Vegas, NV (collectively, “Respondents”). Id. The Office of Unfair Import Investigations (“OUII”) is also a party in this investigation. Id.

On January 5, 2018, Aqua Shield and Respondents filed a joint motion to terminate this investigation as to all respondents based on a settlement agreement (the “Agreement”). OUII filed a response supporting the motion.

On January 23, 2018, the presiding administrative law judge (Chief Judge Bullock) issued the ID, which grants the motion. The ID finds that the private parties' motion complies with Commission Rule 210.21(b), finding that the parties have provided a confidential and a public version of the Agreement, and also finding that the parties' motion states that “[t]here are no other agreements, written or oral, express or implied, regarding the subject matter of this Investigation.” The ID further considers the public interest, as is required under Commission Rule 210.50(b)(2), and determines that the “termination of this Investigation does not impose any undue burdens on the public health and welfare, competitive conditions in the United States economy, production of like or directly competitive articles in the United States, or United States consumers.” Accordingly, the ID grants the motion. No petitions for review of the ID were filed.

The Commission has determined not to review the ID. This investigation is terminated.

The authority for the Commission's determination is contained in Section 337 of the Tariff Act of 1930, as amended (19 U.S.C. 1337), and in part 210 of the Commission's Rules of Practice and Procedure (19 CFR part 210).

By order of the Commission.
Issued: February 5, 2018.
Lisa R. Barton,
Secretary to the Commission.

[FR Doc. 2018-02573 Filed 2-8-18; 8:45 am]

BILLING CODE 7020-02-P